DEPARTMENT OF COMMERCE

International Trade Administration

[A-533-823, A-834-807, A-307-820]

Silicomanganese From India, Kazakhstan, and Venezuela: Continuation of the Antidumping Duty Orders

AGENCY: Enforcement and Compliance, International Trade Administration, Department of Commerce.

SUMMARY: As a result of the determinations by the Department of Commerce (Commerce) and the International Trade Commission (ITC) that revocation of the antidumping duty (AD) orders on silicomanganese from India, Kazakhstan, and Venezuela would be likely to lead to a continuation or recurrence of dumping and material injury to an industry in the United States, Commerce is publishing a notice of continuation of these AD orders.

DATES: Applicable June 12, 2019.

FOR FURTHER INFORMATION CONTACT: Thomas Dunne or Jacqueline Arrowsmith AD/CVD Operations, Office VII, Enforcement and Compliance, International Trade Administration, U.S. Department of Commerce, 1401 Constitution Avenue NW, Washington, DC 20230; telephone: (202) 482-2328 or (202) 482-5255, respectively.

SUPPLEMENTARY INFORMATION:

Background

On September 11, 2018, Commerce published the notice of initiation of the third sunset reviews of the Orders ¹ on silicomanganese from India, Kazakhstan, and Venezuela, pursuant to section 751(c) of the Tariff Act of 1930, as amended (the Act).² As a result of its reviews, on December 17, 2018, Commerce determined that revocation of the Orders on silicomanganese from India, Kazakhstan, and Venezuela would likely lead to the continuation or recurrence of dumping.³ Commerce, therefore, notified the ITC of the magnitude of the margins of dumping likely to prevail were the Orders revoked.⁴

¹ See Notice of Amended Final Determination of Sales at Less than Fair Value and Antidumping Duty Orders: Silicomanganese from India, Kazakhstan, and Venezuela, 67 FR 36149, (May 23, 2002) (Orders).

² See Initiation of Five-Year (Sunset) Reviews, 83 FR 45887 (September 11, 2018).

³ See Silicomanganese from India, Kazakhstan, and Venezuela: Final Results of Expedited Third Sunset Reviews of the Antidumping Duty Orders, 83 FR 64525, (December 17, 2018) and accompanying Issues and Decision Memorandum (IDM).

⁴ Id.

On April 23, 2019, the ITC published its determinations, pursuant to sections 751(c) and 752 of the Act, that revocation of the Orders on silicomanganese from India, Kazakhstan, and Venezuela would likely lead to continuation or recurrence of material injury to an industry in the United States within a reasonably foreseeable time.⁵

⁵ See Silicomanganese from India, Kazakhstan, and Venezuela, 84 FR 16882 (April 23, 2019).

Scope of the Orders

For purposes of these orders, the products covered are all forms, sizes and compositions of silicomanganese, except low-carbon silicomanganese, including silicomanganese briquettes, fines and slag. Silicomanganese is a ferroalloy composed principally of manganese, silicon and iron, and normally contains much smaller proportions of minor elements, such as carbon, phosphorous and sulfur. Silicomanganese is sometimes referred to as ferrosilicon manganese. Silicomanganese is used primarily in steel production as a source of both silicon and manganese. Silicomanganese generally contains by weight not less than 4 percent iron, more than 30 percent manganese, more than 8 percent silicon and not more than 3 percent phosphorous. Silicomanganese is properly classifiable under subheading 7202.30.0000 of the Harmonized Tariff Schedule of the United States (HTSUS). Some silicomanganese may also be classified under HTSUS subheading 7202.99.5040.

The low-carbon silicomanganese excluded from this scope is a ferroalloy with the following chemical specifications: minimum 55 percent manganese, minimum 27 percent silicon, minimum 4 percent iron, maximum 0.10 percent phosphorus, maximum 0.10 percent carbon and maximum 0.05 percent sulfur. Low-carbon silicomanganese is used in the manufacture of stainless steel and special carbon steel grades, such as motor lamination grade steel, requiring a very low carbon content. It is sometimes referred to as ferromanganese-silicon. Low-carbon silicomanganese is classifiable under HTSUS subheading 7202.99.5040.

This scope covers all silicomanganese, regardless of its tariff classification. Although the HTSUS subheadings are provided for convenience and customs purposes, our written description of the scope remains dispositive.

Continuation of the Orders

As a result of the determinations by Commerce and the ITC that revocation of the Orders would likely lead to a continuation or a recurrence of dumping and a continuation or recurrence of material injury to an industry in the United States, pursuant to section 751(d)(2) of the Act and 19 CFR 351.218(a), Commerce hereby orders the continuation of the Orders on silicomanganese from India, Kazakhstan, and Venezuela. U.S. Customs and Border Protection will continue to collect AD cash deposits at the rates in effect at the time of entry for all imports of subject merchandise.

The effective date of the continuation of the Orders will be the date of publication in the Federal Register of this notice of continuation. Pursuant to section 751(c)(2) of the Act, Commerce intends to initiate the next five-year reviews of these orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These sunset reviews and notice are in accordance with sections 751(c), 752, and published pursuant to 777(i)(1) of the Act and 19 CFR 351.218(f)(4).

Dated: June 6, 2019.
Jeffrey I. Kessler,
Assistant Secretary for Enforcement and Compliance.

[FR Doc. 2019-12394 Filed 6-11-19; 8:45 am]

BILLING CODE 3510-DS-P